DEPARTMENT OF DEFENSE

Office of the Secretary

[Docket ID: DoD-2024-OS-0083]

Proposed Collection; Comment Request

AGENCY: Office of the Under Secretary of Defense for Personnel and Readiness (OUSD(P&R)), Department of Defense (DoD).

ACTION: 60-Day information collection notice.

SUMMARY: In compliance with the Paperwork Reduction Act of 1995, the DoD announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 23, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Department of Defense, Office of the Under Secretary of Defense for Personnel and Readiness, 4000 Defense Pentagon, Washington, DC 20301-4000, LTC Patricia Passman, Phone: (703) 693-3985.

SUPPLEMENTARY INFORMATION:

Title; Associated Form; and OMB Number: Certificate of Medical Qualification Examination; DoD Form 3207; OMB Control Number 0704-CMQE.

Needs and Uses: This form is used to collect preplacement and medical information about individuals who are incumbent of positions in the DoD who require medical examination(s) or individuals who have been selected for such a position contingent upon successful completion of medical examinations as a condition of their employment as required by Title 5 Code of Federal Regulations Part 339, Medical Evaluation Programs. This information is needed to ensure fair and consistent treatment of employees and job applicants, to adjudicate the medically based pass-over of a preference eligible, and to adjudicate claims of discrimination under the Americans with Disabilities Act.

Affected Public: Federal Government.

Annual Burden Hours: 135,000.

Number of Respondents: 45,000.

Responses per Respondent: 1.

Annual Responses: 45,000.

Average Burden per Response: 3 hours.

Frequency: As required.

Information collected includes the Agency's input by providing the functional and environmental requirements of the duties of the position of employment; responses by the candidate employee detailing any specific safety or health conditions that could negatively impact the performance of assigned duties, and the results of medical qualification examination performed by the occupational medicine practitioner to assess whether the candidate employee can cope with the job duties, functional requirements and environmental factors of the assigned position.

Dated: July 18, 2024.
Aaron T. Siegel,
Alternate OSD Federal Register Liaison Officer, Department of Defense.

[FR Doc. 2024-16142 Filed 7-22-24; 8:45 am]

BILLING CODE 6001-FR-P